DEPARTMENT OF AGRICULTURE

Submission for OMB Review; Comment Request

September 17, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Tuberculosis.

OMB Control Number: 0579-0146.

Summary of Collection: The Animal Health Protection Act (AHPA) of 2002 is the primary Federal law governing the protection of animal health. The AHPA is contained in Title X, Subtitle E, Sections 10401-18 of Public Law 107-171, May 13 2002, the Farm Security and Rural Investment Act of 2002. The law gives the Secretary of Agriculture broad authority to detect, control, or eradicate pests or diseases of livestock or poultry. In connection with this mission, the Animal and Plant Health Inspection Service (APHIS) participates in the Cooperative State-Federal Bovine Tuberculosis Eradication Program, which is a national program to eliminate bovine tuberculosis from the United States. This program is conducted under the authorities of the various States supplemented by Federal authorities regulating interstate movement of affected animals.

Need and Use of the Information: APHIS will collect the following information for zoning, testing and animal movement: (1) Submission of a Tuberculosis Management Plan for eradicating the disease within a State or zone, thus avoiding a downgrade in the State or zone TB status; (2) submission of a formal request that a zone within a given State is given a different tuberculosis status than the rest of the State, (3) an epidemiological review of reports of all testing for all zones within the State within 30 days of testing, (4) the submission of an annual report to APHIS in order to qualify for renewal of State or zone status, (5) the completion of a certificate of tuberculin test that must accompany certain regulated animals that are moved interstate, (6) the retention, for 2 years of any certificates documenting the movement of regulated animals into and out of zones; and (7) a Memorandum of Understanding (MOU) with APHIS in which the States agrees to adhere to any conditions for zone recognition particular in that request. Without the information APHIS would not be able to operate an effective tuberculosis surveillance, containment, and eradication program.

Description of Respondents: Business or other for-profit; Farms; State, Local or Tribal Government.

Number of Respondents: 2,585.

Frequency of Responses: Recordkeeping; Reporting: On occasion.

Total Burden Hours: 4,807.

Ruth Brown,
Departmental Information Collection Clearance Officer.

[FR Doc. E9-22864 Filed 9-22-09; 8:45 am]

BILLING CODE 3410-34-P